DEPARTMENT OF VETERANS AFFAIRS

[OMB Control No. 2900-New (10-21088)]

Agency Information Collection (Survey of Veteran Enrollees (Quality and Efficiency of VA Health Care)) Under OMB Review

AGENCY: Veterans Health Administration, Department of Veterans Affairs.

ACTION: Notice.

SUMMARY: In compliance with the Paperwork Reduction Act (PRA) of 1995 (44 U.S.C. 3501-21), this notice announces that the Veterans Health Administration (VHA), Department of Veterans Affairs, will submit the collection of information abstracted below to the Office of Management and Budget (OMB) for review and comment. The PRA submission describes the nature of the information collection and its expected cost and burden and includes the actual data collection instrument.

DATES: Comments must be submitted on or before November 20, 2008.

ADDRESSES: Submit written comments on the collection of information through http://www.Regulations.gov; or to VA's OMB Desk Officer, OMB Human Resources and Housing Branch, New Executive Office Building, Room 10235, Washington, DC 20503, (202) 395-7316. Please refer to “OMB Control No. 2900-New (10-21088)” in any correspondence.

FOR FURTHER INFORMATION OR A COPY OF THE SUBMISSION CONTACT: Denise McLamb, Records Management Service (005R1B), Department of Veterans Affairs, 810 Vermont Avenue, NW., Washington, DC 20420, (202) 461-7485, FAX (202) 273-0443 or e-mail: denise.mclamb@mail.va.gov. Please refer to “OMB Control No. 2900-New (10-21088).”

SUPPLEMENTARY INFORMATION: Title: Survey of Veteran Enrollees Quality and Efficiency of VA Health Care, VA Form 10-21088.

OMB Control Number: 2900-New (10-21088).

Type of Review: New collection.

Abstract: VA Form 10-21088 will be used to collect data that is necessary to promote quality and efficient delivery of health care through the use of health information technology transparency regarding quality, price and better incentives for program beneficiaries, enrollees and providers.

An agency may not conduct or sponsor, and a person is not required to respond to a collection of information unless it displays a currently valid OMB control number. The Federal Register Notice with a 60-day comment period soliciting comments on this collection of information was published on August 5, 2008 at page 45528.

Affected Public: Individuals or Households.

Estimated Annual Burden: 18,133.

Estimated Average Burden per Respondent: 10 minutes.

Frequency of Response: On occasion.

Estimated Number of Respondents: 80,080.

Dated: October 9, 2008.
By direction of the Secretary.
Denise McLamb,
Program Analyst, Records Management Service.

[FR Doc. E8-24999 Filed 10-20-08; 8:45 am]

BILLING CODE 8320-01-P